FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No. 010746-010.

Title: Columbus/P&O Nedlloyd Space Charter and Sailing Agreement.

Parties:

Hamburg-Sud, d/b/a Columbus Line

P&O Nedlloyd Limited

Synopsis: The proposed modification adds minimum service levels under the agreement with respect to sailings and TEUs moving in the U.S.-Australian trades.

Agreement No.: 011517-008.

Title: APL/Crowley/Lykes/Evergreen Vessel Sharing Agreement.

Parties:

American President Lines, Ltd.

APL Co. PTE Ltd.

Lykes Lines Limited, LLC

Evergreen Marine Corp. (Taiwan) Ltd.

Hamburg-Sud, d/b/a Columbus Line and Crowley American Transport

Synopsis: In addition to renaming the agreement, the proposed amendment: adds Columbus Line as a d/b/a of Hamburg-Sud; adds Uruguay, Paraguay, and the Bahamas to the scope of the agreement; restructures the arrangement of the parties; deletes rate authority; and revises the understanding of the parties with respect to the duration of the agreement.

Agreement No.: 011642-005.

Title: East Coast United States/East Coast of South America Vessel Sharing Agreement.

Parties:

A.P. Moller-Maersk Sealand

Safmarine Container Lines N.V.

P&O Nedlloyd, Limited

P&O Nedlloyd, B.V.

Oceanica AGW Com. E Rep. Ltda.

Compania Sud Americana de Vapores, S.A.

Companhia Libra de Navegacao S.A.

Alianca Navegacao e Logistica Ltda.

Hamburg-Sud, d/b/a Columbus Line and Crowley American Transport

Synopsis: The proposed amendment: adds Safmarine Container Lines N.V. as a party to the agreement; adds Crowley American Transport as a d/b/a of Hamburg-Sud; adds language clarifying the relationship of the parties; revises allocations; authorize Hamburg-Sud to sub-charter space from within its allocation to parties to FMC Agreement No. 011517; authorizes ad hoc purchase and sale of slots between the agreement parties and the parties to FMC Agreement No. 011517; and revises the understanding of the parties with respect to the duration and termination of the agreement.

Agreement No.: 201125.

Title: Manatee County Port Authority and Port Manatee Forestry Terminal, Inc. Agreement.

Parties:

Manatee County Port Authority

Port Manatee Forestry Terminal Inc.

Synopsis: The proposed agreement provides for the construction and use of a transit warehouse. The initial term of the agreement is for one year after which the term will be year to year.

Dated: August 3, 2001.
By order of the Federal Maritime Commission.
Theodore A. Zook,
Assistant Secretary.

[FR Doc. 01-19918 Filed 8-7-01; 8:45 am]

BILLING CODE 6730-01-P